DEPARTMENT OF DEFENSE

Department of the Army

Fort Bliss Army Growth and Force Structure Realignment Draft; Environmental Impact Statement (DEIS)

AGENCY: Department of the Army, DoD.

ACTION: Notice of availability.

SUMMARY: The Department of the Army announces the availability of a DEIS identifying the potential environmental effects that would result from use of stationing and training capacity, land use changes, and training infrastructure improvements at Fort Bliss (Texas) to support Army growth and force structure realignment.

The DEIS tiers from the Army Growth and Force Structure Realignment Programmatic Environmental Impact Statement (GTA PEIS), for which a Record of Decision was signed in 2007.

DATES: The public comment period for the DEIS will end 60 days after publication of this NOA in the Federal Register by the U.S. Environmental Protection Agency.

ADDRESSES: Written comments should be sent to: Mr. John F. Barrera, IMWE-BLS-PWE, Building 624, Taylor Road, Fort Bliss, TX 79916-6812; e-mail: bliss.eis@conus.army.mil.

FOR FURTHER INFORMATION CONTACT: Ms. Jean Offutt, Public Affairs Officer, IMWE-BLS-PA; Fort Bliss, TX 79916-6812; telephone: (915) 568-6812; fax: (915) 568-2995; e-mail: jean.offutt@us.army.mil.

SUPPLEMENTARY INFORMATION: The Proposed Action would support the growth of the Army and allow for reasonably foreseeable future stationing actions, land use changes, and training infrastructure improvements that take advantage of the varied terrain at Fort Bliss; full suite of training ranges; collocation with heavy, light, and aviation combat units; and collocation with various support units.

Three categories of interrelated alternatives are analyzed in this document: stationing/training; land use changes; and training infrastructure improvements. Each category contains a No Action alternative and several action alternatives.

The stationing/training category of alternatives analyzes the stationing decision made in the GTA PEIS, with deployment (some units will not be present and training at Fort Bliss) and without deployment (assumes all units assigned to Fort Bliss will be there and training) scenarios. The document also analyzes reasonably foreseeable future growth at Fort Bliss, including adding one or more Stryker Brigade Combat Teams and additional support units.

Land uses analyzed in the Fort Bliss DEIS are primarily focused in the rugged terrain of northeast McGregor Range, with minor changes in the southeast and Tularosa Basin portions of McGregor Range, for the purpose of supporting realistic and effective light infantry training. None of the proposed land use changes include the Culp Canyon Wilderness Study Area or the Black Grama Grassland Area of Critical Environmental Concern.

Training infrastructure improvements analyzed in the DEIS include construction of additional firing ranges and expansion or construction of administrative and training support facilities to support the units stationed at Fort Bliss.

Actions analyzed in this document would result in a range of potential impacts. Erosion would increase substantially on range roads interior to the Fort Bliss Training Complex, requiring more frequent maintenance. The most expansive stationing alternative analyzed may, as a result of high tempo training schedules, reduce Native American access to areas of the installation in which they have an ongoing interest. The proposed action would, in certain alternatives, result in a small increase in the economic benefit provided by growth of the installation, and a small decrease in certain quality of life indicators (e.g., traffic, access to government services). Use of restricted airspace for military training would increase under certain alternatives, further limiting access of general and commercial aviation. Training related noise remains significant in areas adjacent to Dona Ana Range and portions of McGregor Range.

The DEIS and other environmental documents are available on the Fort Bliss Web site (https://www.bliss.army.mil/) or in the following libraries: In El Paso, TX, the Richard Burges Regional Library, 9600 Dyer; the Irving Schwartz Branch Library, 1865 Dean Martin; the Clardy Fox Branch Library, 5515 Robert Alva; and the Doris van Doren Regional Branch Library, 551 Redd Road. In Las Cruces, NM, the New Mexico State University Zuhl Library at 2999 McFie Circle. In Alamogordo, NM, the Alamogordo Public Library, 920 Oregon Avenue.

Public meetings to receive comments on the DEIS will be announced through regional newspapers and other public affairs outlets. These meetings will be held in Alamogordo, Chaparral, and Las Cruces, New Mexico, and in El Paso, Texas, and are expected to occur in November 2009.

Dated: October 26, 2009.
Addison D. Davis, IV,
Deputy Assistant Secretary of the Army, (Environment, Safety, and Occupational Health).

[FR Doc. E9-26301 Filed 11-2-09; 8:45 am]

BILLING CODE 3710-08-M